DEPARTMENT OF HEALTH AND HUMAN SERVICES

Centers for Medicare & Medicaid Services

42 CFR Part 419

[CMS-1793-P]

RIN 0938-AV18

Medicare Program; Hospital Outpatient Prospective Payment System: Remedy for the 340B-Acquired Drug Payment Policy for Calendar Years 2018-2022

Correction

In proposed rule document 2023-14623 beginning on page 44078 in the issue of Tuesday, July 11, 2023, make the following correction:

On page 44078, in the first column, in the fourth line of the DATES section, “September 11, 2023” should read “September 5, 2023”.

[FR Doc. C1-2023-14623 Filed 7-13-23; 8:45 am]

BILLING CODE 0099-10-D